DEPARTMENT OF ENERGY

Federal Energy Regulatory Commission

[Project No. 2736-046]

Idaho Power Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2736-046.

c. Date filed: February 14, 2023.

d. Applicant: Idaho Power Company (Idaho Power).

e. Name of Project: American Falls Hydroelectric Project (project).

f. Location: On the Snake River, in Power County, Idaho, near the City of American Falls, Idaho. The project occupies 7.37 acres of United States lands administered by the U.S. Bureau of Reclamation and Bureau of Land Management.

g. Filed Pursuant to: Federal Power Act 16 U.S.C. 791(a)-825(r).

h. Applicant Contact: David Zayas, Idaho Power Company, P.O. Box 70 (83707), 1221 West Idaho Street, Boise, ID 83702; (208) 388-2915; email at dzayas@idahopower.com.

i. FERC Contact: Kristen Sinclair at (202) 502-6587, or kristen.sinclair@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 15, 2023.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: American Falls Hydroelectric Project (P-2736-046).

m. The application is not ready for environmental analysis at this time.

n. Project Description: The existing American Falls Hydroelectric Project is located at Reclamation's American Falls Dam and consists of: (1) three 18-foot-diameter, 240-foot-long, steel-lined penstocks, that connect upstream with similar U.S. Bureau of Reclamation penstocks and the intake works; (2) a reinforced concrete powerhouse containing three 22.5 MW turbines for total installed capacity of 67.5 MW; (3) a 2,300-foot-long, 138-kilovolt (kV) overhead transmission line extending from the powerhouse downstream along the west bank of the Snake River, and across the river to the American Falls Switchyard; (4) a tailrace; (5) recreation facilities; and (6) appurtenant facilities. The project generates an annual average of 395,000 megawatt-hours.

Idaho Power is not proposing any changes to the current operations of the Project, as Project operations are completely dependent on Reclamation's operation of the dam and available flows. Reclamation owns and operates the dam and is responsible for irrigation delivery, controlling flows, ramping rates, reservoir operations, and flood control operations, among others.

As part of the license application, Idaho Power filed a settlement agreement between itself and the Idaho Department of Fish and Game (IDFG) that resolves issues related to project effects of turbine mortality on trout. As part of the settlement agreement, Idaho Power proposes to increase the poundage of hatchery-reared trout to be stocked by Idaho Power annually from 8,000-pounds to 24,000-pounds, with the size (fish per pound), time of stocking, and location determined by IDFG in consultation with Idaho Power. Before release, IDFG will certify the general health and condition of the fish.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the documents (P-2736). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural schedule: The application will be processed according to the following preliminary schedule. Revisions to the schedule will be made as appropriate.

Issue Deficiency Letter (if necessary): March 2023.

Request Additional Information (if needed): March 2023.

Issue Notice of Acceptance: June 2023.

Issue Scoping Document 1 for comments: July 2023.

Request Additional Information (if necessary): September 2023.

Issue Scoping Document 2: October 2023.

Issue Notice of Ready for Environmental Analysis: October 2023.

q. Final amendments to the application must be filed with the Commission no later than 30 days from the issuance date of the notice of ready for environmental analysis.

Dated: February 21, 2023.
Kimberly D. Bose,
Secretary.

[FR Doc. 2023-04008 Filed 2-27-23; 8:45 am]

BILLING CODE 6717-01-P